POSTAL SERVICE

39 CFR Part 111

Shipping Address Label

AGENCY: Postal Service™.

ACTION: Final rule.

SUMMARY: The Postal Service is amending Mailing Standards of the United States Postal Service, Domestic Mail Manual (DMM®) to clarify the requirement of the service icon and service banner when a shipping address label is used.

DATES: Effective date: January 21, 2024.

FOR FURTHER INFORMATION CONTACT: Steven Jarboe at (202) 268-7690, Catherine Knox at (202) 268-5636, or Garry Rodriguez at (202) 268-7281.

SUPPLEMENTARY INFORMATION: On December 5, 2023, the Postal Service published a notice of proposed rulemaking (88 FR 84251-84252) to clarify the requirement of the service icon and service banner when a shipping address label is used. In response to the proposed rule, the Postal Service received two responses, both containing multiple comments, as follows:

Comment: Two comments raised concern with the January 21, 2024, effective date. One of the comments cited late notification, peak season, and end-of-year programming routines as causes for delayed adherence to the new requirements and requested a grace period through March 31, 2024.

Response: The Postal Service has taken this request into consideration and will allow a grace period from January 21, 2024, through May 31, 2024.

Comment: Two comments stated concern with the service icon and service banner requirement being problematic for some of the Postal Service's recommended label formats.

Response: The Postal Service has updated the Parcel Labeling Guide (v3.3.3), available on PostalPro at postalpro.usps.com, which outlines the requirements for sizing of the service icon and banner for all label sizes.

Comment: Two comments were a request to confirm the proposed rule did not require a service icon on Parcel Return Service labels.

Response: The Postal Service has updated the Parcel Labeling Guide (v3.3.3), available on PostalPro at postalpro.usps.com, which outlines the requirements for Parcel Return Service (PRS) labels.

Comment: One comment questioned the proposal to require a generic box with an “X” through it for Parcel Select shipments and questioned the operational purpose of the marking on a destination entered product.

Response: The Parcel Select “X” or solid box service icons are established markings by the Postal Service that are already in use by shippers on their Parcel Select shipping labels. Operationally, the use of these markings assists in the visibility of Parcel Select mailpieces not sorted to a 5-digit, and primarily entered at the DNDC and DSCF (e.g., SCF, 3-digit, NDC).

The Postal Service is requiring the correct service indicator composed of the service icon and service banner be included when a shipping address label is used.

In addition, the Postal Service is requiring the hazardous materials icon in lieu of the service icon be included when a shipping address label is used on items containing mailable hazardous materials.

Any variance in the physical aspect of the label affixed to a parcel presented for mailing may subject the piece to the IMpb noncompliance fee.

We believe these revisions will enable the Postal Service to provide customers with a more efficient mailing experience.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

100 Retail Letters, Cards, Flats, and Parcels

* * * * *

102 Elements on the Face of a Mailpiece

* * * * *

3.0 Placement and Content of Mail Markings

* * * * *

3.2 Priority Mail Marking

[Revise the introductory text of 3.2 to read as follows:]

Priority Mail pieces must have the basic price marking of “Priority Mail” printed in a prominent location on the address side. When a shipping address label is used, the basic required price marking must be printed as provided under 202.3.9.

[Delete items a and b in their entirety.]

[Delete Exhibit 3.2 in its entirety.]

3.3 First-Class Mail and USPS Ground Advantage—Retail Markings

[Revise the second sentence under 3.3 to read as follows:]

* * * When a shipping address label is used, the basic required price marking must be printed as provided under 202.3.9.

3.4 Media Mail, Library Mail, and USPS Retail Ground Markings

[Revise the third sentence of the introductory text of 3.4 to read as follows:]

* * * When a shipping address label is used, the basic required price marking must be printed as provided under 202.3.9.

[Delete items a and b in their entirety.]

[Delete Exhibit 3.4 in its entirety.]

* * * * *

200 Commercial Letters, Cards, Flats, and Parcels

* * * * *

202 Elements on the Face of a Mailpiece

* * * * *

3.0 Placement and Content of Mail Markings

* * * * *

3.3 Priority Mail Express and Priority Mail Markings

* * * * *

3.3.2 Priority Mail

[Revise the text of 3.3.2 to read as follows:]

Priority Mail pieces must have the basic price marking of “Priority Mail” printed in a prominent location on the address side. When a shipping address label is used, the basic required price marking must be printed as provided under 3.9.

[Delete items a and b in their entirety.]

[Delete Exhibit 3.3.2 in its entirety.]

* * * * *

3.5 First-Class Mail and USPS Marketing Mail Markings

3.5.1 Types of Markings

Mailpieces must be marked under the corresponding standards to show the class of service and/or price paid:

* * * * *

[Revise the text of item d to read as follows:]

d. When a shipping address label is used, the basic required price marking must be printed as provided under 3.9.

* * * * *

3.6 USPS Ground Advantage—Commercial Markings

3.6.1 Basic Markings

[Revise the last sentence of 3.6.1 to read as follows:]

* * * When a shipping address label is used, the basic required price marking must be printed as provided under 3.9.

* * * * *

3.7 Parcel Select, Bound Printed Matter, Media Mail, and Library Mail Markings

3.7.1 Basic Markings

[Revise the last sentence in the introductory text of 3.7.1 to read as follows:]

* * * When a shipping address label is used, the basic required price marking must be printed as provided under 3.9.

[Delete items a and b in their entirety.]

[Delete Exhibit 3.7.1 in its entirety.]

* * * * *

[Delete 3.9, Marking Hazardous Materials, and add new 3.9 to read as follows:]

3.9 Shipping Address Label Markings

3.9.1 General

When a shipping address label is used, it must include the correct service indicator composed of two elements, the service icon (except as provided under 3.9.2) and service banner. For information on the markings and specifications, see the Parcel Labeling Guide available on the PostalPro website at postalpro.usps.com/parcellabelingguide). Failure to comply may subject the piece to the IMpb noncompliance fee.

3.9.2 Hazardous Materials

When a shipping address label is used on items containing mailable hazardous materials, it must include the hazardous materials icon in lieu of the service icon as provided in the Parcel Labeling Guide.

* * * * *

[Add new 9.0 to read as follows:]

9.0 Hazardous Materials

9.1 General

Mailers must ensure that their packages meet all applicable markings under 3.0, and ancillary service endorsement requirements under 507.1.5.

9.2 Shipping Address Labels

When a shipping address label is used, the basic required price marking must be printed as provided under 3.9.

9.3 Additional Elements

All mailable hazardous materials must also include the applicable labels, markings, and tags, as required in Publication 52, Hazardous, Restricted, and Perishable Mail.

* * * * *

600 Basic Standards for All Mailing Services

601 Mailability

* * * * *

8.0 Hazardous, Restricted, and Perishable Mail

* * * * *

[Add a new 8.5 to read as follows:]

8.5 Hazardous Materials Labeling

All mailable hazardous materials must be marked as provided under 202.9.0 and include the applicable labels, markings, and tags, as required in Publication 52, Hazardous, Restricted, and Perishable Mail.

* * * * *

Colleen Hibbert-Kapler,
Attorney, Ethics and Legal Compliance.

[FR Doc. 2024-00945 Filed 1-18-24; 8:45 am]

BILLING CODE P